DEPARTMENT OF DEFENSE

Office of the Secretary

[Docket ID: DoD-2014-OS-0072]

Proposed Collection; Comment Request

AGENCY: Office of the Under Secretary of Defense for Acquisition, Technology, and Logistics/Defense Technical Information Center (DTIC).

ACTION: Notice.

SUMMARY: In compliance with the Paperwork Reduction Act of 1995, the Office of the Under Secretary of Defense for Acquisition, Technology, and Logistics/Defense Technical Information Center (DTIC) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 8, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write or send an email to the DTIC-BC Registration Team, Defense Technical Information Center, 8725 John J. Kingman Road, Suite 0944, Fort Belvoir, VA 22060-6218, or email Ms. Kerry Christensen: kchriste@dtic.mil. Ms. Christensen may be telephoned at: (703) 767-8247.

SUPPLEMENTARY INFORMATION:

Title; Associated Form; and OMB Number: Registration for Scientific and Technical Information Services; DD Form 1540; OMB Control Number 0704-0264.

Needs and Uses: The data that the Defense Technical Information Center handles is controlled, because of either distribution limitations or security classification. For this reason, all potential users are required to register for service. DoD Instruction 3200.14, Principles and Operational Parameters of the DoD Scientific and Technical Information Program, mandates the registration procedure. Federal Government agencies and their contractors are required to complete the DD Form 1540, Registration for Scientific and Technical Information Services. The contractor community completes a separate DD Form 1540 for each contract or grant, and registration is valid until the contract expires.

Affected Public: Business or other for profit; Federal Government; State, local, or tribal government.

Annual Burden Hours: 1,667.

Number of Respondents: 10,000.

Responses per Respondent: 1.

Annual Responses: 10,000.

Average Burden per Response: 10 minutes.

Frequency: On occasion.

The DD Form 1540 serves as a registration tool for Federal Government agencies and their contractors to access DTIC services. Potential users registering for services are required to obtain certification from a designated approving official. Collected information is verified by DTIC's Marketing and Registration Division.

Dated: October 5, 2015.
Aaron Siegel,
Alternate OSD Federal Register Liaison Officer, Department of Defense.

[FR Doc. 2015-25831 Filed 10-9-15; 8:45 am]

BILLING CODE 5001-06-P